Proclamation 10827 of September 30, 2024

National Youth Justice Action Month, 2024

By the President of the United States of America

A Proclamation

America's young people are part of the most gifted and talented generation in our history—and, like anyone, they deserve second chances. During National Youth Justice Action Month, we recommit to ensuring that our communities are safe and supportive so that young people thrive. And we recommit to developing a juvenile justice system that reflects our Nation's most fundamental values of equality, fairness, and opportunity.

Between 2000 and 2022, the number of young people in our juvenile justice system has declined significantly, but young people of color and young people with disabilities are still disproportionally represented. Additionally, young people who enter juvenile justice facilities often lack the support, resources, educational opportunities, and guidance necessary for meaningful rehabilitation and, as a result, are not set up for success once they leave. The young people in the juvenile justice system often spend years in unsafe environments, without treatment for trauma or mental health conditions.

My Administration remains committed to improving our youth justice system so that young people who are released are set up for success. My Administration has made historic investments in our youth justice system. For youth facing juvenile and criminal justice system involvement, we are investing in evidence-based diversion programs. And we are expanding access to lawyers who will advocate for and advise these youth. For those who are exiting the system, we are investing in programs that help youth find housing, educational opportunities, mentorship, job training, and other services as they return to their communities.

We are also ensuring that young people have good schools to attend, safe communities to live in, and exciting opportunities for their futures. My Administration launched the National Partnership for Student Success, which will bring together 250,000 tutors and mentors for our students. And we secured $1.3 billion to fund afterschool and summer learning programs for K-12 students. To support our Nation's youth we increased investments in Full-Service Community Schools fivefold, including providing $253 million to create over 2,000 new full-service community schools in the country, providing critical supports to serve more than one million students' physical, mental health, and academic needs.

We are also making it easier for youth to receive mental health care. When we passed the Nation's first major gun safety law in nearly three decades, we secured funding to increase the number and diversity of school psychologists and mental health counselors available to our children and made it easier for schools to use Medicaid to deliver these services. We also launched 988, the National Suicide and Crisis Lifeline. By texting or calling 988, young people can connect with trained crisis counselors 24 hours a day, 7 days a week—and for those who need it, the Lifeline now supports unprecedented access to American Sign Language interpreters. And we have invested in building mobile crisis response teams so that people in crisis can be connected with trained mental health professionals right away.

During National Youth Justice Action Month, we recommit to doing all that we can to ensure that all of our young people can lead full lives. We show our gratitude to all those supporting youth, both in and out of the juvenile justice system, as they work to build lives full of purpose and meaning. And we strengthen our resolve to ensure that our juvenile justice system reflects America's promise of liberty and justice for all.

NOW, THEREFORE, I, JOSEPH R. BIDEN JR., President of the United States of America, by virtue of the authority vested in me by the Constitution and laws of the United States, do hereby proclaim October 2024 as National Youth Justice Action Month. I call upon all Americans to observe this month by taking action to support our youth and by participating in appropriate ceremonies, activities, and programs in their communities.

IN WITNESS WHEREOF, I have hereunto set my hand this thirtieth day of September, in the year of our Lord two thousand twenty-four, and of the Independence of the United States of America the two hundred and forty-ninth.

[FR Doc. 2024-23001

Filed 10-2-24; 8:45 am]

Billing code 3395-F4-P